DEPARTMENT OF ENERGY

Federal Energy Regulatory Commission

[Project No. 14425-000]

Liberty University, Inc.; Notice of Preliminary Permit Application Accepted for Filing and Soliciting Comments, Motions To Intervene, and Competing Applications

On June 15, 2012, Liberty University, Inc., filed an application for a preliminary permit, pursuant to section 4(f) of the Federal Power Act (FPA), proposing to study the feasibility of the Scott's Mill Hydropower Project (project) to be located on the James River, in the City of Lynchburg, Virginia. The proposed project would be located in Amherst and Bedford Counties, Virginia. The project would not occupy any federal land. The sole purpose of a preliminary permit, if issued, is to grant the permit holder priority to file a license application during the permit term. A preliminary permit does not authorize the permit holder to perform any land-disturbing activities or otherwise enter upon lands or waters owned by others without the owners' express permission.

The proposed project would consist of the following: (1) The existing 15-foot-high, 925-foot-long Scott's Mill dam, impounding a 316-acre reservoir with a normal maximum water surface elevation of 511 feet mean sea level; (2) a new powerhouse containing four generating units with a total installed capacity of 4.8 megawatts; (3) a new 500-foot-long underground transmission line; and (4) appurtenant facilities. The project would have an estimated annual generation of 10,500 megawatt-hours, and would be sold to a local utility.

Applicant Contact: Mr. Lee Beaumont, Assistant to the Chancellor, Liberty University, 1971 University Blvd., Lynchburg, Virginia 24502; phone: (434) 592-3315; email: lbeaumont@liberty.edu.

FERC Contact: Tim Looney; phone: (202) 502-6096.

Deadline for filing comments, motions to intervene, competing applications (without notices of intent), or notices of intent to file competing applications: 60 days from the issuance of this notice.¹ Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

¹ The Commission is issuing a second notice for this project because some municipalities may not have been notified by the first notice issued on July 9, 2012.

More information about this project, including a copy of the application, can be viewed or printed on the “eLibrary” link of Commission's Web site at http://www.ferc.gov/docs-filing/elibrary.asp. Enter the docket number (P-14425) in the docket number field to access the document. For assistance, contact FERC Online Support.

Dated: October 1, 2012.
Kimberly D. Bose,
Secretary.

[FR Doc. 2012-24817 Filed 10-9-12; 8:45 am]

BILLING CODE 6717-01-P